Proclamation 9433 of April 28, 2016

National Mental Health Awareness Month, 2016

By the President of the United States of America

A Proclamation

Nearly 44 million American adults, and millions of children, experience mental health conditions each year, including depression, anxiety, bipolar disorder, schizophrenia, and post-traumatic stress. Although we have made progress expanding mental health coverage and elevating the conversation about mental health, too many people still do not get the help they need. Our Nation is founded on the belief that we must look out for one another—and whether it affects our family members, friends, co-workers, or those unknown to us—we do a service for each other when we reach out and help those struggling with mental health issues. This month, we renew our commitment to ridding our society of the stigma associated with mental illness, encourage those living with mental health conditions to get the help they need, and reaffirm our pledge to ensure those who need help have access to the support, acceptance, and resources they deserve.

In the last 7 years, our country has made extraordinary progress in expanding mental health coverage for more people across America. The Affordable Care Act prohibits insurance companies from discriminating against people based on pre-existing conditions, requires coverage of mental health and substance use disorder services in individual and small group markets, and expands mental health and substance use disorder parity policies, which are estimated to help more than 60 million Americans. Nearly 15 million more Americans have gained Medicaid coverage since October 2013, significantly improving access to mental health care. And because of more than $100 million in funding from the Affordable Care Act, community health centers have expanded behavioral health services for nearly 900,000 people nationwide over the past 2 years. Still, far too few Americans experiencing mental illnesses do not receive the care and treatment they need. That is why my most recent Budget proposal includes a new half-billion dollar investment to improve access to mental health care, engage individuals with serious mental illness in care, and help ensure behavioral health care systems work for everyone.

Our Nation has made strong advances in improving prevention, increasing early intervention, and expanding treatment of mental illnesses. Earlier this year, I established a Mental Health and Substance Use Disorder Parity Task Force, which aims to ensure that coverage for mental health benefits is comparable to coverage for medical and surgical care, improve understanding of the requirements of the law, and expand compliance with it. Mental health should be treated as part of a person's overall health, and we must ensure individuals living with mental health conditions can get the treatment they need. My Administration also continues to invest in science and research through the BRAIN initiative to enhance our understanding of the complexities of the human brain and to make it easier to diagnose and treat mental health disorders early.

One of our most profound obligations as a Nation is to support the men and women in uniform who return home and continue fighting battles against mental illness. Last year, I signed the Clay Hunt SAV Act, which fills critical gaps in serving veterans with post-traumatic stress and other illnesses, increases peer support and outreach, and recruits more talented individuals to work on mental health issues at the Department of Veterans Affairs. This law will make it easier for veterans to get the care they need when they need it. All Americans, including service members, can get immediate assistance by calling the National Suicide Prevention Lifeline at 1-800-273-TALK or by calling 1-800-662-HELP.

During National Mental Health Awareness Month, we recognize those Americans who live with mental illness and substance use disorders, and we pledge solidarity with their families who need our support as well. Let us strive to ensure people living with mental health conditions know that they are not alone, that hope exists, and that the possibility of healing and thriving is real. Together, we can help everyone get the support they need to recover as they continue along the journey to get well.

NOW, THEREFORE, I, BARACK OBAMA, President of the United States of America, by virtue of the authority vested in me by the Constitution and the laws of the United States, do hereby proclaim May 2016 as National Mental Health Awareness Month. I call upon citizens, government agencies, organizations, health care providers, and research institutions to raise mental health awareness and continue helping Americans live longer, healthier lives.

IN WITNESS WHEREOF, I have hereunto set my hand this twenty-eighth day of April, in the year of our Lord two thousand sixteen, and of the Independence of the United States of America the two hundred and fortieth.

[FR Doc. 2016-10506

Filed 5-2-16; 11:15 am]

Billing code 3295-F6-P